DEPARTMENT OF ENERGY

Federal Energy Regulatory Commission

Combined Notice of Filings #1

Take notice that the Commission received the following electric rate filings:

Docket Numbers: ER10-2400-015.

Applicants: Blue Canyon Windpower LLC.

Description: Triennial Market Power Analysis for Southwest Power Pool Inc. Region of Blue Canyon Windpower LLC.

Filed Date: 1/3/22.

Accession Number: 20220103-5485.

Comment Date: 5 p.m. ET 3/4/22.

Docket Numbers: ER10-2739-033; ER10-1892-020; ER16-1652-020; ER17-1494-004; ER19-170-004; ER20-660-007; ER21-1505-002; ER22-425-001.

Applicants: Enerwise Global Technologies, LLC, Diablo Energy Storage, LLC, Bolt Energy Marketing, LLC, Gateway Energy Storage, LLC, Vista Energy Storage, LLC, LifeEnergy LLC, Columbia Energy LLC, LS Power Marketing, LLC.

Description: Triennial Market Power Analysis for Southwest Region of LS Power Marketing, LLC, et al.

Filed Date: 1/3/22.

Accession Number: 20220103-5486.

Comment Date: 5 p.m. ET 3/4/22.

Docket Numbers: ER11-4498-013; ER11-4499-013; ER11-4501-015; ER12-979-014; ER12-2448-014; ER13-2409-009; ER14-2858-008; ER15-2615-004; ER15-2620-004; ER16-2293-005; ER16-2577-004; ER16-2653-005; ER16-2687-003; ER17-790-002; ER17-2457-004; ER17-2470-004; ER18-27-003; ER18-2312-003; ER18-2330-002; ER20-1790-001; ER20-2134-001; ER21-2597-001.

Applicants: Rockhaven Wind Project, LLC, Cimarron Bend Wind Project III, LLC, Aurora Wind Project, LLC, Enel Green Power Rattlesnake Creek Wind Project, LLC, Enel Green Power Diamond Vista Wind Project, LLC, Thunder Ranch Wind Project, LLC, Red Dirt Wind Project, LLC, Rock Creek Wind Project, LLC, Cimarron Bend Wind Project II, LLC, Chisholm View Wind Project II, LLC, Cimarron Bend Wind Project I, LLC, Lindahl Wind Project, LLC, Drift Sand Wind Project, LLC, Little Elk Wind Project, LLC, Goodwell Wind Project, LLC, Origin Wind Energy, LLC, Buffalo Dunes Wind Project, LLC, Chisholm View Wind Project, LLC, Rocky Ridge Wind Project, LLC, Caney River Wind Project, LLC, Smoky Hills Wind Project II, LLC, Smoky Hills Wind Farm, LLC.

Description: Triennial Market Power Analysis for Southwest Power Pool Inc. Region of Smoky Hills Wind Farm, LLC, et al.

Filed Date: 12/30/21.

Accession Number: 20211230-5330.

Comment Date: 5 p.m. ET 2/28/22.

Docket Numbers: ER15-632-012; ER14-2465-013; ER14-2466-013; ER14-2939-010; ER15-634-012; ER15-2728-012; ER16-711-009; ER19-2287-003; ER19-2294-003; ER19-2305-003.

Applicants: Valencia Power, LLC, Mesquite Power, LLC, Goal Line L.P., Pio Pico Energy Center, LLC, Maricopa West Solar PV, LLC, Cottonwood Solar, LLC, Imperial Valley Solar Company (IVSC) 2, LLC, RE Camelot LLC, RE Columbia Two LLC, CID Solar, LLC.

Description: Triennial Market Power Analysis for Southwest Region of CID Solar, LLC, et al.

Filed Date: 1/3/22.

Accession Number: 20220103-5488.

Comment Date: 5 p.m. ET 3/4/22.

Docket Numbers: ER22-758-000.

Applicants: Diamond Spring, LLC.

Description: § 205(d) Rate Filing: Triennial Market Power Update and Seller Category Tariff Revision to be effective 3/5/2022.

Filed Date: 1/3/22.

Accession Number: 20220103-5385.

Comment Date: 5 p.m. ET 1/24/22.

Docket Numbers: ER22-759-000.

Applicants: Tri-State Generation and Transmission Association, Inc.

Description: § 205(d) Rate Filing: Initial Filing of Rate Schedule No. 339 to be effective 12/2/2021.

Filed Date: 1/3/22.

Accession Number: 20220103-5390.

Comment Date: 5 p.m. ET 1/24/22.

Docket Numbers: ER22-760-000.

Applicants: Midcontinent Independent System Operator, Inc., Ameren Illinois Company.

Description: § 205(d) Rate Filing: Midcontinent Independent System Operator, Inc. submits tariff filing per 35.13(a)(2)(iii: 2022-01-04_SA 3763 Ameren-City of Newton Switching Agreement to be effective 3/6/2022.

Filed Date: 1/4/22.

Accession Number: 20220104-5115.

Comment Date: 5 p.m. ET 1/25/22.

Docket Numbers: ER22-761-000.

Applicants: PJM Interconnection, L.L.C.

Description: § 205(d) Rate Filing: Interim ISA, SA No. 6271; Queue No. AF1-141 to be effective 12/7/2021.

Filed Date: 1/4/22.

Accession Number: 20220104-5124.

Comment Date: 5 p.m. ET 1/25/22.

Docket Numbers: ER22-762-000.

Applicants: Midcontinent Independent System Operator, Inc., American Transmission Company LLC.

Description: § 205(d) Rate Filing: Midcontinent Independent System Operator, Inc. submits tariff filing per 35.13(a)(2)(iii: 2022-01-04_SA 3764 ATC-WPL E&P (J1304) to be effective 1/5/2022.

Filed Date: 1/4/22.

Accession Number: 20220104-5130.

Comment Date: 5 p.m. ET 1/25/22.

Docket Numbers: ER22-763-000.

Applicants: Wildwood Lessee, LLC.

Description: Baseline eTariff Filing: Reactive Power Compensation Filings to be effective 1/5/2022.

Filed Date: 1/4/22.

Accession Number: 20220104-5137.

Comment Date: 5 p.m. ET 1/25/22.

Take notice that the Commission received the following qualifying facility filings:

Docket Numbers: QF22-282-000.

Applicants: Bloom Energy Corporation.

Description: Form 556 of Bloom Energy Corporation [1621 North Olden Ave].

Filed Date: 1/4/22.

Accession Number: 20220104-5135.

Comment Date: 5 p.m. ET 1/25/22.

Docket Numbers: QF22-283-000.

Applicants: Bloom Energy Corporation.

Description: Form 556 of Bloom Energy Corporation [7605 Tonnelle Ave].

Filed Date: 1/4/22.

Accession Number: 20220104-5141.

Comment Date: 5 p.m. ET 1/25/22.

Docket Numbers: QF22-284-000.

Applicants: Bloom Energy Corporation.

Description: Form 556 of Bloom Energy Corporation [180 12th St].

Filed Date: 1/4/22.

Accession Number: 20220104-5146.

Comment Date: 5 p.m. ET 1/25/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

Dated: January 4, 2022.
Debbie-Anne A. Reese,
Deputy Secretary.

[FR Doc. 2022-00193 Filed 1-7-22; 8:45 am]

BILLING CODE 6717-01-P